DEPARTMENT OF THE INTERIOR

National Park Service

[NPS-WASO-NAGPRA-NPS0035450; PPWOCRADN0-PCU00RP14.R50000]

Notice of Inventory Completion: Pittsburg State University, Pittsburg, KS

AGENCY: National Park Service, Interior.

ACTION: Notice.

SUMMARY: In accordance with the Native American Graves Protection and Repatriation Act (NAGPRA), the Pittsburg State University has completed an inventory of human remains and associated funerary objects and has determined that there is no cultural affiliation between the human remains and any Indian Tribe. The human remains were removed from Kings County, CA; Luna County, NM; and Muskogee County, OK.

DATES: Disposition of the human remains in this notice may occur on or after April 10, 2023.

ADDRESSES: Steven Cox, Pittsburg State University, 1701 S Broadway, Pittsburg, KS 33732, telephone (620) 235-4883, email spcox@pittstate.edu.

SUPPLEMENTARY INFORMATION: This notice is published as part of the National Park Service's administrative responsibilities under NAGPRA. The determinations in this notice are the sole responsibility of Pittsburg State University. The National Park Service is not responsible for the determinations in this notice. Additional information on the determinations in this notice, including the results of consultation, can be found in the inventory or related records held by Pittsburg State University.

Description

During the 1920s, human remains representing, at minimum, 19 individuals were removed by Harry Rimmer, an amateur archeologist, from locations reasonably believed to be Kings County, CA; Muskogee County, OK; and Luna County, NM. These human remains became part of the collection of the museum established at Pittsburg State University (then the Kansas Teachers College of Pittsburg) at the time of their removal. No records have survived concerning the acquisition or accession, identification, or age of these human remains. Articles about the museum published in the university's student newspaper in the 1920s reveal that in the mid-1920s, Dr. William Brandenburg, the president of the university, invited Harry Rimmer, to help establish a natural history museum at the university. During the following several years, Mr. Rimmer traveled throughout the U.S., excavated known Native American burial sites in Kings County, CA, Muskogee County, OK, and Luna County, NM, and removed and shipped human remains to the university for the museum. The museum existed on campus until approximately 1970. No known individuals were identified. No associated funerary objects are present.

Aboriginal Land

The human remains and associated funerary objects in this notice were removed from known geographic locations. These locations are the aboriginal lands of one or more Indian Tribes. The following information was used to identify the aboriginal land: treaties.

Determinations

Pursuant to NAGPRA and its implementing regulations, and after consultation with the appropriate Indian Tribes, Pittsburg State University has determined that:

• The human remains described in this notice represent the physical remains of 19 individuals of Native American ancestry.

• No relationship of shared group identity can be reasonably traced between the human remains and associated funerary objects and any Indian Tribe.

• The human remains described in this notice were removed from the aboriginal land of the Alabama-Quassarte Tribal Town; Apache Tribe of Oklahoma; Caddo Nation of Oklahoma; Cherokee Nation; Cheyenne and Arapaho Tribes, Oklahoma; Fort Sill Apache Tribe of Oklahoma; Mescalero Apache Tribe of the Mescalero Reservation, New Mexico; Santa Rosa Indian Community of the Santa Rosa Rancheria, California; The Muskogee (Creek) Nation; The Osage Nation; Tule River Indian Tribe of the Tule River Reservation, California; White Mountain Apache Tribe of the Fort Apache Reservation, Arizona; and the Wichita and Affiliated Tribes (Wichita, Keechi, Waco, & Tawakonie), Oklahoma.

Requests for Disposition

Written requests for disposition of the human remains in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains described in this notice to a requestor may occur on or after April 10, 2023. If competing requests for disposition are received, Pittsburg State University must determine the most appropriate requestor prior to disposition. Requests for joint disposition of the human remains are considered a single request and not competing requests. Pittsburg State University is responsible for sending a copy of this notice to the Indian Tribes identified in this notice.

Authority: Native American Graves Protection and Repatriation Act, 25 U.S.C. 3003, and the implementing regulations, 43 CFR 10.9 and § 10.11.

Dated: March 1, 2023.
Melanie O'Brien,
Manager, National NAGPRA Program.

[FR Doc. 2023-04900 Filed 3-9-23; 8:45 am]

BILLING CODE 4312-52-P